DEPARTMENT OF COMMERCE

International Trade Administration

[A-580-890]

Emulsion Styrene-Butadiene Rubber From the Republic of Korea: Final Results of the Administrative Review of the Antidumping Duty Order; 2018-2019

AGENCY: Enforcement and Compliance International Trade Administration, Department of Commerce.

SUMMARY: The Department of Commerce (Commerce) finds that sales of emulsion styrene butadiene rubber (ESB rubber) from the Republic of Korea (Korea) were made at less than normal value during the period of review (POR) September 1, 2018 through August 31, 2019.

DATES: Applicable October 23, 2020.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On July 1, 2020, Commerce published the Preliminary Results of the administrative review of the antidumping duty order on ESB rubber from Korea, wherein we applied facts otherwise available with adverse inferences to the sole mandatory respondent, LG Chem, Ltd. (LG Chem), because LG Chem notified Commerce that it would not participate in the review.¹ We invited parties to submit comments on the Preliminary Results. No party submitted comments. Accordingly, the final results remain unchanged from the Preliminary Results.

¹ See Emulsion Styrene-Butadiene Rubber from the Republic of Korea: Preliminary Results of the Administrative Review of the Antidumping Duty Order 2018-2019, 85 FR 39534 (July 1, 2020) (Preliminary Results) and accompanying Preliminary Decision Memorandum (PDM); see also LG Chem's Letter, “Emulsion Styrene Butadiene Rubber (ESBR) from Korea: LG Chem's Decision to Stop Participating in AD Review,” dated January 13, 2020.

On July 21, 2020, Commerce tolled all deadlines in administrative reviews by 60 days.² The deadline for the final results of this review is now December 28, 2020.³

² See Memorandum, “Tolling of Deadlines for Antidumping and Countervailing Duty Administrative Reviews,” dated July 21, 2020.

³ Id.

Scope of the Order

The merchandise subject to this order is cold-polymerized emulsion styrene-butadiene rubber. Subject merchandise includes but is not limited to ESB rubber in primary forms, bales, granules, crumbs, pellets, powders, plates, sheets strip, etc. ESB rubber consists of non-pigmented rubbers and oil-extended non-pigmented rubbers, both of which contain at least one percent of organic acids from the emulsion polymerization process.

ESB rubber is produced and sold in accordance with a generally accepted set of product specifications issued by the International Institute of Synthetic Rubber Producers (IISRP). The scope of the review covers grades of ESB rubber included in the IISRP 1500 and 1700 series of synthetic rubbers. The 1500 grades are light in color and are often described as “Clear” or “White Rubber.” The 1700 grades are oil-extended and thus darker in color, and are often called “Brown Rubber.”

Specifically excluded from the scope of this order are products which are manufactured by blending ESB rubber with other polymers, high styrene resin master batch, carbon black master batch (i.e., HSRP 1600 series and 1800 series) and latex (an intermediate product).

The subject merchandise is classifiable under subheadings 4002.19.0015 and 4002.19.0019 of the Harmonized Tariff Schedule of the United States (HTSUS). ESB rubber is described by Chemical Abstract Services (CAS) Registry No. 9003-55-8. This CAS number also refers to other types of styrene butadiene rubber.

Although the HTSUS subheadings and the CAS registry number are provided for convenience and customs purposes, the written description of the scope of the order is dispositive.

Final Results of Review

We made no changes from the Preliminary Results. Therefore, as a result of this review, we continue to determine that the following percentage weighted-average dumping margins exist for the period of September 1, 2018 through August 31, 2019:

Producers/exporters | Dumping margin (percent)
LG Chem Ltd.⁴ | 44.30
Review-Specific Rate Applicable to the Following Companies: ⁵
Daewoo International Corporation | 44.30
Hyundai Glovis Co | 44.30
Kukje Trading Corp | 44.30
Kumho Petrochemical Co. Ltd | 44.30
Sungsan International Co., Ltd | 44.30
WE International Co., Ltd | 44.30

Assessment

Commerce shall determine, and U.S. Customs and Border Protection (CBP) shall assess, antidumping duties on all appropriate entries covered by this review, in accordance with section 751(a)(2)(C) of the Act and 19 CFR 351.212(b). These final results of review remain unchanged from the Preliminary Results. Accordingly, we will instruct CBP to apply an ad valorem assessment rate of 44.30 percent to all entries of subject merchandise during the POR from LG Chem and the companies which were not selected for individual examination.⁶ Commerce intends to issue assessment instructions 15 days after the publication date of the final results of this review.

⁴ As explained in the Preliminary Results PDM, mandatory respondent LG Chem notified Commerce that it would not participate in this administrative review, and we applied facts otherwise available with adverse inference (AFA), in accordance with section 776 of the Act. No party challenged our Preliminary Results with respect to LG Chem or the rate selected. Therefore, we continue to apply AFA to LG Chem.

⁵ The rate of 44.30 percent is the only rate determined in this review for an individual respondent, and, thus, it is appropriate to apply this rate to the non-selected companies under section 735(c)(5)(B) of the Act. For a detailed discussion, see the PDM.

⁶ See Preliminary Results.

Cash Deposit Requirements

The following cash deposit requirements will be effective for all shipments of ESB rubber from Korea entered, or withdrawn from warehouse, for consumption on or after the publication date of the final results of this administrative review, as provided by section 751(a)(2)(C) of the Act: (1) The cash deposit rate for LG Chem, Daewoo International Corporation, Hyundai Glovis Co., Kukje Trading Corp., Kumho Petrochemical Co. Ltd., Sungsan International Co., Ltd., and WE International Co., Ltd. will be equal to the dumping margin established in these final results of review, which remains unchanged from the Preliminary Results (i.e., 44.30 percent); (2) for previously investigated companies not under review in this segment, the cash deposit will continue to be the company-specific rate published for the most recently completed segment of this proceeding in which the company participated; (3) if the exporter is not a firm covered in this review, or the original less-than-fair-value (LTFV) investigation, but the manufacturer is, then the cash deposit rate will be the rate established for the most recent segment for the manufacturer of the merchandise; and (4) the cash deposit rate for all other manufacturers or exporters will continue to be 9.66 percent, the all-others rate established in the LTFV investigation. These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the term of an APO is a violation subject sanction.

Notification to Interested Parties

We are issuing and publishing these final results in accordance with sections 751(a)(1) and 777(i) of the Act, and 19 CFR 351.213(h).

Dated: October 15, 2020.
Jeffrey I. Kessler,
Assistant Secretary for Enforcement and Compliance.

[FR Doc. 2020-23516 Filed 10-22-20; 8:45 am]

BILLING CODE 3510-DS-P